DEPARTMENT OF TRANSPORTATION

Office of the Secretary

Notice of Applications for Certificates of Public Convenience and Necessity and Foreign Air Carrier Permits Filed Under Subpart B (formerly Subpart Q) During the Week Ending November 2, 2007

The following Applications for Certificates of Public Convenience and Necessity and Foreign Air Carrier Permits were filed under subpart B (formerly subpart Q) of the Department of Transportation's Procedural Regulations (see 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0028.

Date Filed: October 29, 2007.

Due Date for Answers, Conforming Applications, or Motion To Modify Scope: November 19, 2007.

Description: Application of Hawaiian Airlines, Inc. requesting certificate authority from the United States to the Philippines and related integration authority as provided in the Notice issued August 23, 2005 in Docket OST-2005-22228.

Docket Number: DOT-OST-2007-0030.

Date Filed: October 31, 2007.

Due Date for Answers, Conforming Applications, or Motion To Modify Scope: November 21, 2007.

Description: Application of Scandinavian Airlines System (SAS) requesting an exemption and an amended foreign air carrier permit authorizing SAS to conduct operations to and from the United States to the full extent authorized by the recently signed United States-European Union Air Transport Agreement, for flights operations on or after March 30, 2008, including authority to engage in: (i) Foreign scheduled and charter air transportation of persons, property and mail from any point or points behind any Member State of the European Union, via any point or points in the United States and beyond; (ii) foreign scheduled and charter air transportation of persons, property and mail between any point or points in the United States and any point or points in any member of the European Common Aviation Area; (iii) foreign scheduled and charter cargo air transportation between any point or points in the United States and any point or points; (iv) other charters pursuant to prior approval requirements; and (v) transportation authorized by any additional route rights made available to European Community carriers in the future.

Docket Number: DOT-OST-2005-20395.

Date Filed: November 2, 2007.

Due Date for Answers, Conforming Applications, or Motion To Modify Scope: November 23, 2007.

Description: Amendment No. 1 of Flyjet Limited d/b/a Silverjet (Silverjet) to its application for a foreign air carrier permit and requesting an exemption to seek expanded authority to permit it to engage in: (a) Foreign scheduled and charter air transportation of persons, property, and mail from any point or points behind any Member State of the European Union, via any point or points in any Member state and via intermediate points, to any point or points in the United States and beyond; (b) foreign scheduled and charter air transportation of persons, property and mail between any point or points in the United States and any point or points in any member of the European Common Aviation Area; (c) foreign scheduled and charter cargo air transportation between any point or points in the United States and any point or points; (d) other charters; and (e) transportation authorized by any additional route rights made available to European community carriers in the future.

Docket Number: DOT-OST-2007-0033.

Date Filed: October 30, 2007.

Due Date for Answers, Conforming Applications, or Motion To Modify Scope: November 20, 2007.

Description: Application of WestCan International Airlines, Inc. requesting a foreign air carrier permit and an exemption for non-scheduled, all-cargo charter flights between Canada and the United States and its possessions.

Renee V. Wright,
Program Manager, Docket Operations, Federal Register Liaison.

[FR Doc. E8-2479 Filed 2-8-08; 8:45 am]

BILLING CODE 4910-9X-P